ENVIRONMENTAL PROTECTION AGENCY

40 CFR Part 52

[WV059-6018; FRL-7141-1]

Approval and Promulgation of Air Quality Implementation Plans; West Virginia; Revisions to the Ozone Maintenance Plan for the Huntington-Ashland Area

AGENCY: Environmental Protection Agency (EPA).

ACTION: Final rule.

SUMMARY: EPA is approving a State Implementation Plan (SIP) revision submitted by the State of West Virginia. This revision amends West Virginia's ten-year plan to maintain the national ambient air quality standard (NAAQS) for ozone in the Huntington-Ashland area (the maintenance plan). The intended effect of this action is to approve amendments to the maintenance plan that implement contingency measures in response to recorded violations of the 1-hour ozone NAAQS, and that revise the motor vehicle emission sub-regional budgets for the West Virginia counties (Cabell and Wayne) that are located in the Huntington-Ashland area. This action is being taken under the Clean Air Act (the Act).

EFFECTIVE DATE: This final rule is effective on March 11, 2002.

ADDRESSES: Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW, Washington, DC 20460; and the West Virginia Department of Environmental Protection, Division of Air Quality, 7012 MacCorkle Avenue, S.E., Charleston, West Virginia 25304-2943.

FOR FURTHER INFORMATION CONTACT: Christopher Cripps, (215) 814-2179, or via e-mail at cripps.christopher@epa.gov.

SUPPLEMENTARY INFORMATION:

I. Background

On November 27, 2001 (66 FR 59205), EPA published a notice of proposed rulemaking (NPR) for the State of West Virginia. The NPR proposed approval of a State Implementation Plan (SIP) revision submitted by the State of West Virginia. This revision amends West Virginia's 1-hour ozone maintenance plan for the Huntington-Ashland area. These maintenance plan amendments implement contingency measures in response to recent recorded violations of the 1-hour ozone NAAQS, and revise the motor vehicle emission sub-regional budgets for the West Virginia counties (Cabell and Wayne) that are located in the Huntington-Ashland area. The State of West Virginia submitted the formal SIP revision on November 29, 2001 with a supplement on December 18, 2001.

This revision was proposed under a procedure called parallel processing, whereby EPA proposes rulemaking action concurrently with the state's procedures for amending its SIP. On September 25, 2001, the West Virginia Department of Environmental Protection (WVDEP) submitted a request that EPA parallel process revisions to the West Virginia SIP's 1-hour ozone maintenance plan for the Huntington-Ashland area. Under parallel processing, if the state's final submission is not substantially changed, EPA can publish a final rulemaking notice without publishing another notice of proposed rulemaking. On November 29, 2001 with a supplement on December 18, 2001, West Virginia submitted the adopted amendments to the maintenance plan which contained no substantive changes from that on which EPA proposed approval in the November 27, 2001 notice of proposed rulemaking.

Other specific requirements of the amendments to West Virginia's maintenance plan for the Huntington-Ashland area and the rationale for EPA's proposed action are explained in the NPR and will not be restated here. No public comments were received on the NPR.

II. Final Action

EPA is approving amendments to West Virginia's maintenance plan for the Huntington-Ashland area that implement contingency measures and that revise the motor vehicle emission sub-budgets for the West Virginia counties (Cabell and Wayne) in this area as a revision to the West Virginia SIP.

III. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by April 9, 2002. Filing a petition for reconsideration by the Administrator of this final rule does not affect the finality of this rule for the purposes of judicial review nor does it extend the time within which a petition for judicial review may be filed, and shall not postpone the effectiveness of such rule or action. This action to approve revisions to West Virginia's 1-hour ozone maintenance plan for the Huntington-Ashland area may not be challenged later in proceedings to enforce its requirements. (See section 307(b)(2).)

List of Subjects in 40 CFR Part 52

Environmental protection, Air pollution control, Carbon monoxide, Incorporation by reference, Intergovernmental relations, Nitrogen dioxide, Ozone, Reporting and recordkeeping requirements.

Dated: February 1, 2002.
Donald S. Welsh,
Regional Administrator, Region III.

40 CFR part 52 is amended as follows:

PART 52—[AMENDED]

1. The authority citation for part 52 continues to read as follows:

Authority: 42 U.S.C. 7401 et seq.

Subpart XX—West Virginia

2. Section 52.25420 is amended by adding paragraphs (c)(45) to read as follows:

§ 52.2520 Identification of plan.

* * * * *

(c) * * *

(45) Revisions to the West Virginia Regulations amending the ten-year maintenance plan for Huntington, West Virginia (Cabell and Wayne Counties) submitted on November 29, 2001 and December 18, 2001 by the West Virginia Department of Environmental Protection:

(i) Incorporation by reference.

(A) Letter of November 29, 2001 from the West Virginia Department of Environmental Protection transmitting amendments to the ten-year maintenance plan for Huntington, West Virginia (Cabell and Wayne Counties).

(B) Letter of December 18, 2001 from the West Virginia Department of Environmental Protection transmitting amendments to the ten-year maintenance plan for Huntington, West Virginia (Cabell and Wayne Counties).

(C) Amendments to the Huntington, West Virginia (Cabell and Wayne Counties) ozone maintenance plan submitted by the West Virginia Department of Environmental Protection effective November 16, 2001. This plan establishes motor vehicle emissions budgets for VOCs of 11.20 tons/day for 2002, and 11.00 tons/day for 2005. This plan also establishes motor vehicle emissions budgets for NOX of 11.56 tons/day for 2002, and 11.43 tons/day for 2005.

(ii) Additional Material.—Remainder of the November 29, 2001 and December 18, 2001 submittals pertaining to the revisions to the West Virginia Regulations amending the ten-year maintenance plan for Huntington, West Virginia (Cabell and Wayne Counties) revisions.

[FR Doc. 02-3188 Filed 2-7-02; 8:45 am]

BILLING CODE 6560-50-P